DEPARTMENT OF TRANSPORTATION

Federal Aviation Administration

14 CFR Part 71

[Docket No. FAA-2023-1325; Airspace Docket No. 23-AGL-17]

RIN 2120-AA66

Amendment of VOR Federal Airway V-36 and Establishment of RNAV Route T-675; Northcentral United States

AGENCY: Federal Aviation Administration (FAA), DOT.

ACTION: Notice of proposed rulemaking (NPRM).

SUMMARY: This action proposes to amend Very High Frequency (VHF) Omnidirectional Range (VOR) Federal airway V-36 and establish Area Navigation (RNAV) route T-675 in the northcentral United States. The airway amendments are necessary due to the planned decommissioning of the Wawa, Ontario (ON), Canada, VOR navigational aid (NAVAID). This action is in support of NAV CANADA's NAVAID Modernization Program within Canada.

DATES: Comments must be received on or before July 7, 2023.

ADDRESSES: Send comments identified by FAA Docket No. FAA-2023-1325 and Airspace Docket No. 23-AGL-17 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal airways are published in paragraph 6010(a) and Canadian Area Navigation Routes are published in paragraph 6013 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

NAV CANADA, which operates Canada's civil air navigation service, is implementing changes to Canada's instrument flight rules (IFR) navigation infrastructure as part of their NAVAID Modernization Program. This modernization program is designed to enhance the efficiency of Canada's flying operations by taking advantage of performance-based navigation and RNAV avionics capabilities. The changes being implemented by NAV CANADA affect a portion of VOR Federal airway V-36 which extends across the United States/Canada border through United States airspace over Lake Superior, MI.

NAV CANADA is planning to decommission the Wawa, ON, Canada, VOR in November 2023 as part of their NAVAID Modernization Program. As a result, amendment of V-36 in United States airspace is required due to the loss of navigational guidance between Thunder Bay, ON, Canada and Sault Ste Marie, MI, and to mirror the airway changes planned by NAV CANADA within Canadian airspace. Additionally, NAV CANADA plans to establish a new Canadian RNAV route, T-675, as a route replacement for V-36.

To mitigate the loss of the V-36 route segment over Lake Superior in northern Michigan, and support NAV CANADA's planned RNAV route replacement for V-36, the FAA must establish a segment of the Canadian RNAV route T-675 over Lake Superior within United States airspace. The new Canadian RNAV route segment in United States airspace would provide airway continuity with NAV CANADA's T-675 in Canadian airspace and support cross border airway connectivity between the United States and Canada. IFR pilots could continue to be able to use adjacent VOR Federal airways V-300 and V-348 or request air traffic control (ATC) radar vectors to fly around the affected area. IFR aircraft equipped with RNAV capabilities could also navigate point to point using airspace fixes and waypoints (WP) that will remain in place. Visual flight rules (VFR) pilots who elect to navigate airways could also take advantage of the adjacent VOR Federal airways or ATC services listed previously.

The Proposal

The FAA is proposing an amendment to 14 CFR part 71 to amend VOR Federal airway V-36 and establish Canadian RNAV route T-675 in United States airspace. This action is being taken due to NAV CANADA's planned decommissioning of the Wawa, ON, Canada, VOR as part of their NAVAID Modernization Program. The proposed Air Traffic Service (ATS) route actions are described below.

V-36: V-36 currently extends between the Thunder Bay, ON, Canada, VOR/DME and the Sault Ste Marie, MI, VOR/DME; and between the Elmira, NY, VOR/DME and the intersection of the La Guardia, NY, VOR/DME 310° and the Stillwater, NJ, VOR/DME 043° radials (NEION fix). The airspace within Canada is excluded. The FAA proposes to remove the airway segment between the Thunder Bay, ON, Canada, VOR/DME and the Sault Ste Marie, MI, VOR/DME. The FAA also proposes to remove the exclusionary language. As amended, the airway would extend completely within United States airspace between the Elmira VOR/DME and the intersection of the La Guardia VOR/DME 310° and the Stillwater VOR/DME 043° radials (NEION fix).

T-675: T-675 is a new RNAV route proposed between the NOJJE, MI, and the RUXDU, MI, WPs replacing the “CFZDP” and “CFTKM” computer navigation fixes, respectively, on the United States/Canada border. The new RNAV route would provide route continuity and cross border connectivity over Lake Superior with the two T-675 route segments being established by NAV CANADA within Canadian airspace between the Wawa, ON, Canada, and the Thunder Bay, ON, Canada, areas.

All radials in the VOR Federal airway V-36 description in the Proposed Amendment section below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11G, Airspace Designations and Reporting Points, dated August 19, 2022, and effective September 15, 2022, is amended as follows:

Paragraph 6010(a) Domestic VOR Federal Airways.

* * * * *

V-36 [Amended]

From Elmira, NY; INT Elmira 110° and LaGuardia, NY, 310° radials; to INT LaGuardia 310° and Stillwater, NJ, 043° radials.

* * * * *

Paragraph 6013 Canadian Area Navigation Routes.

* * * * *

T-675 NOJJE, MI to RUXDU, MI [New]
NOJJE, MI | WP | (Lat. 48°10′58.82″ N, long. 088°03′36.84″ W)
RUXDU, MI | WP | (Lat. 48°13′11.74″ N, long. 088°44′17.74″ W)

* * * * *

Issued in Washington, DC, on May 31, 2023.
Brian Konie,
Acting Manager, Airspace Rules and Regulations.

[FR Doc. 2023-12046 Filed 6-6-23; 8:45 am]

BILLING CODE 4910-13-P